FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 5, 2020.

A. Federal Reserve Bank of Dallas (Robert L. Triplett III, Senior Vice President) 2200 North Pearl Street, Dallas, Texas 75201-2272:

1. Russell Alexander, Dallas, Texas; Brian Applegate, Pittsburg, Texas; Alex Castro, Carrollton, Texas; Daniel Castro, Gilmer, Texas; Edward Castro, Farmers Branch, Texas; Kent Martin, Longview, Texas; Mark Richardson, Bogata, Texas; and Paul Sewell, Pittsburg, Texas; as members of a group acting in concert, to acquire voting shares of Daingerfield Holding Company and thereby indirectly acquire voting shares of Texas Heritage National Bank, both of Daingerfield, Texas.

B. Federal Reserve Bank of Kansas City (Dennis Denney, Assistant Vice President) 1 Memorial Drive, Kansas City, Missouri 64198-0001:

1. Sam Blackard, Independence, Kansas; to acquire voting shares of First Howard Bankshares, Inc., and thereby indirectly acquire voting shares of Peoples State Bank, both of Cherryvale, Kansas, and to be approved as a member acting in concert with the Blackard Family Control Group.

Board of Governors of the Federal Reserve System, February 14, 2020.
Yao-Chin Chao,
Assistant Secretary of the Board.

[FR Doc. 2020-03365 Filed 2-19-20; 8:45 am]

BILLING CODE P